DEPARTMENT OF HOUSING AND URBAN DEVELOPMENT

[Docket No. FR-5477-N-40]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW, Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: COE: Mr. Scott Whiteford, Army Corps of Engineers, Real Estate, CEMP-CR, 441 G Street, NW., Washington, DC 20314; (202) 761-5542; GSA: Mr. John E.B. Smith, General Services Administration, Office of Real Property Utilization and Disposal, 1800 F Street, NW., Room 7040, Washington, DC 20405; (202) 501-0084; Interior: Mr. Michael Wright, Acquisition & Property Management, Department of the Interior, 1801 Pennsylvania Ave., NW., 4th Floor, Washington, DC 20006: (202) 254-5522; Navy: Mr. Albert Johnson, Department of the Navy, Asset Management Division, Naval Facilities Engineering Command, Washington Navy Yard, 1330 Patterson Ave., SW., Suite 1000, Washington, DC 20374; (202) 685-9305 (These are not toll-free numbers).

Dated: September 29, 2011.
Mark R. Johnston,
Deputy Assistant Secretary for Special Needs.

TITLE V, FEDERAL SURPLUS PROPERTY PROGRAM FEDERAL REGISTER REPORT FOR 10/07/2011

Suitable/Available Properties

Building

Missouri

FAA NDB Facility

N. Farm Rd. 95

Willard MO

Landholding Agency: GSA

Property Number: 54201120012

Status: Surplus

GSA Number: 7-U-MO-0689

Comments: 48 sq. ft., recent use: electrical equipment storage, chain-link fence surrounds property

Montana

Boulder Admin. Site

12 Depot Hill Rd.

Boulder MT 59632

Landholding Agency: GSA

Property Number: 54201130016

Status: Excess

GSA Number: 7-A-MT-532-AA

Comments: 4,799 sq. ft.; recent use: office, repairs are needed

South Dakota

Main House

Lady C Ranch Rd.

Hot Springs SD 57747

Landholding Agency: GSA

Property Number: 54201130011

Status: Surplus

GSA Number: 7-A-0523-3-AE

Comments: Off-site removal only; the property is a 2-story structure with 1,024 sq. ft. per floor for a total of 2,048 sq. ft.; structure type: Log Cabin; recent use: residential

Main Garage

Lady C Ranch Rd.

Hot Springs SD 57747

Landholding Agency: GSA

Property Number: 54201130012

Status: Surplus

GSA Number: 7_A-SD-0523-3-AF

Comments: Off-site removal only; 567 sq. ft.; structure type: Log Frame; recent use: vehicle storage

Metal Machine/Work Bldg.

Lady C Ranch Rd.

Hot Springs SD 57747

Landholding Agency: GSA

Property Number: 54201130013

Status: Surplus

GSA Number: 7-A-SD-0523-3-AG

Comments: Off-site removal only; 3,280 sq. ft.; structure type: Post/Pole w/Metal Siding; recent use: utility shed

Mobile Home

Lady C Ranch Rd.

Hot Springs SD 57477

Landholding Agency: GSA

Property Number: 54201130014

Status: Surplus

GSA Number: 7-A-0523-3-AH

Comments: Off-site removal only; 1,152 sq. ft.; structure type: manufactured home/double wide; recent use: residential

Mobile Home Garage

Lady C Ranch Rd.

Hot Springs SD 57747

Landholding Agency: GSA

Property Number: 54201130015

Status: Surplus

GSA Number: 7-A-SD-0523-3-AI

Comments: Off-site removal only; 729 sq. ft.; structure type: Post/Pole construction w/metal side; recent use: storage

Washington

2 Bldgs.

Bureau of Reclamation

Sunnyside WA

Landholding Agency: Interior

Property Number: 61201130003

Status: Excess

Directions: Storehouse and Lumber Shed

Comments: Off-site removal only for both bldgs.; Storehouse: 4,400 sq. ft.; Lumber Shed: 800 sq. ft.; bldgs. in poor condition—need repairs; lead-base paint is present in bldgs.

Suitable/Available Properties

Land

New Mexico

FAA RML Facility—West Mesa

Lost Horizon Drive

Albuquerque NM

Landholding Agency: GSA

Property Number: 54201120013

Status: Surplus

GSA Number: 7-U-NM-0486-6

Comments: 0.3462 acres, recent use: FAA RML Facility, chain-link fence surrounds property

North Dakota

Vacant Land of MSR Site

Stanley Mickelsen

Nekoma ND

Landholding Agency: GSA

Property Number: 54201130009

Status: Surplus

GSA Number: 7-D-ND-0499

Comments: 20.2 acres; recent use: unknown

Suitable/Unavailable Properties

Building

Arizona

Willcox Patrol Station

200 W. Downew Street

Willcox AZ 85643-2742

Landholding Agency: GSA

Property Number: 54201110004

Status: Surplus

GSA Number: 9-X-AZ-0860

Comments: 2,448 sq. ft., most recent use: detention facility

California

Defense Fuel Support Pt.

Estero Bay Facility

Morro Bay CA 93442

Landholding Agency: GSA

Property Number: 54200810001

Status: Surplus

GSA Number: 9-N-CA-1606

Comments: former 10 acre fuel tank farm w/associated bldgs/pipelines/equipment, possible asbestos/PCBs

Former SSA Bldg.

1230 12th Street

Modesto CA 95354

Landholding Agency: GSA

Property Number: 54201020002

Status: Surplus

GSA Number: 9-G-CA-1610

Comments: 11,957 sq. ft., needs rehab/seismic retrofit work, potential groundwater contamination below site, potential flooding

Georgia

Fed. Bldg. Post Office/Court

404 N. Broad St.

Thomasville GA 31792

Landholding Agency: GSA

Property Number: 54201110006

Status: Surplus

GSA Number: 4-G-GA-878AA

Comments: 49,366 total sq. ft. Postal Svc currently occupies 11,101 sq. ft. through Sept. 30, 2012. Current usage: gov't offices, asbestos has been identified as well as plumbing issues.

Illinois

1LT A.J. Ellison

Army Reserve

Wood River IL 62095

Landholding Agency: GSA

Property Number: 54201110012

Status: Excess

GSA Number: 1-D-II-738

Comments: 17,199 sq. ft. for the Admin. Bldg., 3,713 sq. ft. for the garage, public space (roads and hwy) and utilities easements, asbestos and lead base paint identified most current use: unknown.

Iowa

U.S. Army Reserve

620 West 5th St.

Garner IA 50438

Landholding Agency: GSA

Property Number: 54200920017

Status: Excess

GSA Number: 7-D-IA-0510

Comments: 5743 sq. ft., presence of lead paint, most recent use—offices/classrooms/storage, subject to existing easements

Maryland

Appraisers Store

Baltimore MD 21202

Landholding Agency: GSA

Property Number: 54201030016

Status: Excess

GSA Number: 4-G-MD-0623

Comments: 169,801 sq. ft., most recent use—federal offices, listed in the Natl Register of Historic Places, use restrictions

Michigan

Social Security Bldg.

929 Stevens Road

Flint MI 48503

Landholding Agency: GSA

Property Number: 54200720020

Status: Excess

GSA Number: 1-G-MI-822

Comments: 10,283 sq. ft., most recent use—office

CPT George S. Crabbe USARC

2901 Webber Street

Saginaw MI

Landholding Agency: GSA

Property Number: 54201030018

Status: Excess

GSA Number: 1-D-MI-835

Comments: 3891 sq. ft., 3-bay garage maintenance building

Mississippi

James O. Eastland

245 East Capitol St.

Jackson MS 39201-2409

Landholding Agency: GSA

Property Number: 54201040020

Status: Excess

GSA Number: 4-G-MS-0567-AA

Directions: Federal Bldg. and Courthouse

Comments: 14,000 sq. ft., current/recent use: gov't offices and courtrooms, asbestos identified behind walls, and historic bldg. preservation covenants will be included in the Deed of Conveyance

Missouri

Federal Bldg/Courthouse

339 Broadway St.

Cape Girardeau MO 63701

Landholding Agency: GSA

Property Number: 54200840013

Status: Excess

GSA Number: 7-G-MO-0673

Comments: 47,867 sq. ft., possible asbestos/lead paint, needs maintenance & seismic upgrades, 30% occupied—tenants to relocate within 2 yrs

New Hampshire

Federal Building

719 Main St.

Parcel ID: 424-124-78

Laconia NH 03246

Landholding Agency: GSA

Property Number: 54200920006

Status: Excess

GSA Number: 1-G-NH-0503

Comments: 31,271 sq. ft., most recent use—office bldg., National Register nomination pending

New Jersey

Camp Petricktown Sup. Facility

US Route 130

Pedricktown NJ 08067

Landholding Agency: GSA

Property Number: 54200740005

Status: Excess

GSA Number: 1-D-NJ-0662

Comments: 21 bldgs., need rehab, most recent use—barracks/mess hall/garages/quarters/admin., may be issues w/right of entry, utilities privately controlled, contaminants

Ohio

Oxford USAR Facility

6557 Todd Road

Oxford OH 45056

Landholding Agency: GSA

Property Number: 54201010007

Status: Excess

GSA Number: 1-D-OH-833

Comments: office bldg./mess hall/barracks/simulator bldg./small support bldgs., structures range from good to needing major rehab

Belmont City Memorial USAR Ctr

5305 Guernsey St.

Bellaire OH 43906

Landholding Agency: GSA

Property Number: 54201020008

Status: Excess

GSA Number: 1-D-OH-837

Comments: 11,734 sq. ft.—office/drill hall; 2,519 sq. ft.—maint. shop

Army Reserve Center

5301 Hauserman Rd.

Parma OH 44130

Landholding Agency: GSA

Property Number: 54201020009

Status: Excess

GSA Number: I-D-OH-842

Comments: 29, 212, and 6,097 sq. ft.; most recent use: office, storage, classroom, and drill hall; water damage on 2nd floor; and wetland property

Oregon

3 Bldgs/Land

OTHR-B Radar

Cty Rd 514

Christmas Valley OR 97641

Landholding Agency: GSA

Property Number: 54200840003

Status: Excess

GSA Number: 9-D-OR-0768

Comments: 14000 sq. ft. each/2626 acres, most recent use—radar site, right-of-way

U.S. Customs House

220 NW 8th Ave.

Portland OR

Landholding Agency: GSA

Property Number: 54200840004

Status: Excess

GSA Number: 9-D-OR-0733

Comments: 100,698 sq. ft., historical property/National Register, most recent use—office, needs to be brought up to meet earthquake code and local bldg codes, presence of asbestos/lead paint

South Carolina

Naval Health Clinic

3600 Rivers Ave.

Charleston SC 29405

Landholding Agency: GSA

Property Number: 54201040013

Status: Excess

GSA Number: 4-N-SC-0606

Comments: Redetermination: 399,836 sq. ft., most recent use: office

Virginia

Tract 05-511, Qrts. 11

7941 Brock Rd.

Spotsylvania VA 22553

Landholding Agency: GSA

Property Number: 54201110001

Status: Excess

GSA Number: 4-I-VA-0756

Comments: 1642 sq. ft., off-site removal only, previously reported by Interior and published as suitable/available in the 10.22.2010 FR

Washington

Fox Island Naval Lab

630 3rd Ave.

Fox Island WA 98333

Landholding Agency: GSA

Property Number: 54201020012

Status: Surplus

GSA Number: 9-D-WA-1245

Comments: 6405 sq. ft.; current use: office and lab

West Virginia

Naval Reserve Center

841 Jackson Ave.

Huntington WV 25704

Landholding Agency: GSA

Property Number: 54200930014

Status: Excess

GSA Number: 4-N-WV-0555

Comments: 31,215 sq. ft., presence of asbestos/lead paint, most recent use—office

Harley O. Staggers Bldg.

75 High St.

Morgantown WV 26505

Landholding Agency: GSA

Property Number: 54201020013

Status: Excess

GSA Number: 4-G-WV-0557

Comments: 57,600 sq. ft; future owners must maintain exposure prevention methods (details in deed); most recent use: P.O. and federal offices

Suitable/Unavailable Properties

Land

Arizona

0.23 acres

87th Ave.

Glendale AZ

Landholding Agency: GSA

Property Number: 54201010005

Status: Excess

GSA Number: 9-I-AZ-853

Comments: 0.23 acres used for irrigation canal

Guadalupe Road Land

Ironwood Road

Apache Junction AZ 95971

Landholding Agency: GSA

Property Number: 54201010012

Status: Surplus

GSA Number: 9-AZ-851-1

Comments: 1.36 acres, most recent use—aqueduct reach

Land

95th Ave/Bethany Home Rd

Glendale AZ 85306

Landholding Agency: GSA

Property Number: 54201010014

Status: Surplus

GSA Number: 9-AZ-852

Comments: 0.29 acre, most recent use—irrigation canal

0.30 acre

Bethany Home Road

Glendale AZ 85306

Landholding Agency: GSA

Property Number: 54201030010

Status: Excess

GSA Number: 9-I-AZ-0859

Comments: 10 feet wide access road

California

Parcel F-2 Right of Way

null

Seal Beach CA 90740

Landholding Agency: GSA

Property Number: 54201030012

Status: Surplus

GSA Number: 9-N-CA-1508-AI

Comments: Correction: 631.62 sq. ft., encroachment

Parcel F-4 Right of Way

null

Seal Beach CA

Landholding Agency: GSA

Property Number: 54201030014

Status: Surplus

GSA Number: 9-N-CA-1508-AK

Comments: 126.32 sq. ft., within 3 ft. set back required by City

Drill Site #3A

null

Ford City CA 93268

Landholding Agency: GSA

Property Number: 54201040004

Status: Surplus

GSA Number: 9-B-CA-1673-AG

Comments: 2.07 acres, mineral rights, utility easements

Drill Site #4

null

Ford City CA 93268

Landholding Agency: GSA

Property Number: 54201040005

Status: Surplus

GSA Number: 9-B-CA-1673-AB

Comments: 2.21 acres, mineral rights, utility easements

Drill Site #6

null

Ford City CA 93268

Landholding Agency: GSA

Property Number: 54201040006

Status: Surplus

GSA Number: 9-B-CA-1673-AC

Comments: 2.13 acres, mineral rights, utility easements

Drill Site #9

null

Ford City CA 93268

Landholding Agency: GSA

Property Number: 54201040007

Status: Surplus

GSA Number: 9-B-CA-1673-AH

Comments: 2.07 acres, mineral rights, utility easements

Drill Site #20

null

Ford City CA 93268

Landholding Agency: GSA

Property Number: 54201040008

Status: Surplus

GSA Number: 9-B-CA-1673-AD

Comments: 2.07 acres, mineral rights, utility easements

Drill Site #22

null

Ford City CA 93268

Landholding Agency: GSA

Property Number: 54201040009

Status: Surplus

GSA Number: 9-B-CA-1673-AF

Comments: 2.07 acres, mineral rights, utility easements

Drill Site #24

null

Ford City CA 93268

Landholding Agency: GSA

Property Number: 54201040010

Status: Surplus

GSA Number: 9-B-CA-1673-AE

Comments: 2.06 acres, mineral rights, utility easements

Drill Site #26

null

Ford City CA 93268

Landholding Agency: GSA

Property Number: 54201040011

Status: Surplus

GSA Number: 9-B-CA-1673-AA

Comments: 2.07 acres, mineral rights, utility easements

Massachusetts

FAA Site

Massasoit Bridge Rd.

Nantucket MA 02554

Landholding Agency: GSA

Property Number: 54200830026

Status: Surplus

GSA Number: MA-0895

Comments: approx 92 acres, entire parcel within MA Division of Fisheries & Wildlife Natural Heritage & Endangered Species Program

Missouri

FAA

North Congress Ave & 110th St.

Kansas City MO 64153

Landholding Agency: GSA

Property Number: 54201110005

Status: Surplus

GSA Number: 7-U-MO-0688

Comments: Correction from 02/25/2011 Federal Register: .23 acres, legal constraint: utility easement only, current use: vacant land; move to unavailable; expression of interest received

Pennsylvania

approx. 16.88

271 Sterrettania Rd.

Erie PA 16506

Landholding Agency: GSA

Property Number: 54200820011

Status: Surplus

GSA Number: 4-D-PA-0810

Comments: vacant land

Texas

FAA Outermarker—Houston

null

Spring TX 77373

Landholding Agency: GSA

Property Number: 54201040001

Status: Surplus

GSA Number: 7-U-TX-1110

Comments: 0.2459 acres, subject to restrictions/regulations regarding the Houston Intercontinental Airport, may not have access to a dedicated roadway

Unsuitable Properties

Building

Connecticut

Bldg. 20

Naval Submarine Base

Groton CT

Landholding Agency: Navy

Property Number: 77201130020

Status: Excess

Reasons: Within 2000 ft. of flammable or explosive material, Extensive deterioration, Secured Area

Hawaii

Facility 254

Joint Base Pearl Harbor Hickam

JBPHH HI

Landholding Agency: Navy

Property Number: 77201130019

Status: Excess

Reasons: Extensive deterioration, Secured Area

Maine

Bldg. 547

SERE

Rangeley ME

Landholding Agency: Navy

Property Number: 77201130022

Status: Excess

Comments: Asbestos present

Reasons: Contamination, Extensive deterioration, Secured Area

New Jersey

13 Bldgs.

Trng Ctr-Storage Sheds

Cape May NJ 08204

Landholding Agency: COE

Property Number: 31201130009

Status: Excess

Directions: 1740, 1741, 1750, 1760, 1761, 1710, 1711, 1720, 1724, 1730, 1731, 1734, 1754

Reasons: Extensive deterioration

North Dakota

Non Tactical Area

Stanley Micklesen

Nekoma ND

Landholding Agency: GSA

Property Number: 54201130010

Status: Surplus

GSA Number: 7-D-ND-0499

Comments: Asbestos present

Reasons: Contamination

Remote Sprint Launch #4

Stanley Mickelsen

Nekoma ND

Landholding Agency: GSA

Property Number: 54201130017

Status: Surplus

GSA Number: 7-D-ND-0499

Comments: Asbestos present

Reasons: Contamination

Remote Sprint Launch #1

Stanley Mickelsen

Nekoma ND

Landholding Agency: GSA

Property Number: 54201130018

Status: Surplus

GSA Number: 7-D-ND-0499

Comments: Asbestos present

Reasons: Contamination

Tactical Area of MSR Site

Stanley Mickelsen

Nekoma ND

Landholding Agency: GSA

Property Number: 54201130019

Status: Surplus

GSA Number: 7-D-ND-0499

Comments: Asbestos present

Reasons: Contamination

Remote Sprint Launch #3

Stanley Mickelsen

Nekoma ND

Landholding Agency: GSA

Property Number: 54201130020

Status: Surplus

GSA Number: 7-D-ND-0499

Comments: Asbestos present

Reasons: Contamination

Remote Sprint Launch #2

Stanley Mickelsen

Nekoma ND

Landholding Agency: GSA

Property Number: 54201130021

Status: Surplus

GSA Number: 7-D-ND-0499

Comments: Asbestos present

Reasons: Contamination

Rhode Island

Bldg. 72CC

Naval Station Newport

Newport RI

Landholding Agency: Navy

Property Number: 77201130021

Status: Excess

Reasons: Floodway, Secured Area, Extensive deterioration

Virginia

7 Bldgs.

Marine Corps Base

Quantico VA

Landholding Agency: Navy

Property Number: 77201130023

Status: Excess

Directions: 2600, 2601, 2602, 2633, 2634, 2635, 2636

Reasons: Secured Area, Extensive deterioration

[FR Doc. 2011-25567 Filed 10-6-11; 8:45 am]

BILLING CODE 4210-67-P